DEPARTMENT OF THE INTERIOR

National Park Service

[NPS-WASO-NAGPRA-NPS0036459; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and has determined that there is no cultural affiliation between the human remains and any Indian Tribe. The human remains were removed from Worcester County, MA.

DATES: Disposition of the human remains in this notice may occur on or after September 27, 2023.

ADDRESSES: Patricia Capone, Peabody Museum of Archaeology and Ethnology, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the PMAE. The National Park Service is not responsible for the determinations in this notice. Additional information on the determinations in this notice, including the results of consultation, can be found in the inventory or related records held by the PMAE.

Description

In 1909, human remains representing, at minimum, one individual were removed by Samuel Kirkland Lothrop from the land of S.K. Warren in Harvard, Worcester County, MA. Lothrop donated the human remains to the PMAE in 1919. No associated funerary objects are present.

In 1857, human remains representing, at minimum, one individual were removed by John White from the area of Wachusett in Westminster, Worcester County, MA. White presented the human remains to the Warren Anatomical Museum, Harvard University (WAM) at an unknown date, and the WAM sent the human remains to the PMAE on permanent loan in May of 1959. No associated funerary objects are present.

On October 12, 1885, human remains representing, at minimum, one individual were removed by Dr. W.H. Raymenton from William U. Maynard's farm in the town of Northborough, near the town boundary with Shrewsbury, in Worcester County, MA. Raymenton collected the human remains as part of an excavation with the Worcester Society of Natural History. The Worcester Society of Natural History donated the human remains to the PMAE later in 1885. The human remains were found in a peat bog, under approximately five feet of soil and on solid bedrock, near where the teeth and tusks of a mastodon were excavated in 1884. No associated funerary objects are present.

On June 25, 1891, human remains representing, at minimum, one individual were removed by an unknown person from an “Indian Burial Place” in Winchendon, Worcester County, MA. The Massachusetts Historical Society donated the human remains to the PMAE, likely in 1891. No associated funerary objects are present.

Aboriginal Land

The human remains in this notice were removed from known geographic locations. These locations are the aboriginal lands of one or more Indian Tribes. Historical documents and other information obtained through consultation show that Worcester County, MA, was aboriginally occupied by the Wampanoag people. These types of information also show that Worcester County, MA, was aboriginally occupied by the Nipmuc people, who are not represented by any federally recognized Indian Tribe. The following information was used to identify the aboriginal land: treaties.

Determinations

Pursuant to NAGPRA and its implementing regulations, and after consultation with the appropriate Indian Tribes, the PMAE has determined that:

• The human remains described in this notice represent the physical remains of four individuals of Native American ancestry.

• No relationship of shared group identity can be reasonably traced between the human remains and any Indian Tribe.

• The human remains described in this notice were removed from the aboriginal land of the Mashpee Wampanoag Tribe and the Wampanoag Tribe of Gay Head (Aquinnah).

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after September 27, 2023. If competing requests for disposition are received, the PMAE must determine the most appropriate requestor prior to disposition. Requests for joint disposition of the human remains are considered a single request and not competing requests. The PMAE is responsible for sending a copy of this notice to the Indian Tribes identified in this notice.

Authority: Native American Graves Protection and Repatriation Act, 25 U.S.C. 3003, and the implementing regulations, 43 CFR 10.9 and 10.11.

Dated: August 18, 2023.
Melanie O'Brien,
Manager, National NAGPRA Program.

[FR Doc. 2023-18496 Filed 8-25-23; 8:45 am]

BILLING CODE 4312-52-P